DEPARTMENT OF JUSTICE

Foreign Claims Settlement Commission

[F.C.S.C. Meeting and Hearing Notice No. 05-20]

Sunshine Act Meeting

SUMMARY: The Foreign Claims Settlement Commission, pursuant to its regulations and the Government in the Sunshine Act, hereby gives notice in regard to the scheduling of open meetings as follows:

DATES: Thursday, June 25, 2020, at 10 a.m.

PLACE: This meeting will be held by teleconference. There will be no physical meeting place.

STATUS: Open. Members of the public who wish to observe the meeting via teleconference should contact Patricia M. Hall, Foreign Claims Settlement Commission, Tele: (202) 616-6975, two business days in advance of the meeting. Individuals will be given call-in information upon notice of attendance to the Commission.

MATTERS TO BE CONSIDERED: 10:00 a.m.—Issuance of Proposed Decisions under the Guam World War II Loyalty Recognition Act, Title XVII, Public Law 114-328.

CONTACT PERSON FOR MORE INFORMATION: Requests for information, advance notices of intention to observe an open meeting, and requests for teleconference dial-in information may be directed to: Patricia M. Hall, Foreign Claims Settlement Commission, 441 G St NW, Room 6234, Washington, DC 20579. Telephone: (202) 616-6975.

Brian M. Simkin,
Chief Counsel.

[FR Doc. 2020-13131 Filed 6-15-20; 4:15 pm]

BILLING CODE 4410-BA-P